DEPARTMENT OF TRANSPORTATION

Federal Motor Carrier Safety Administration

[Docket No. FMCSA-2007-28825]

Agency Information Collection Activities; Revision of an Approved Information Collection: Training Certification for Entry-Level Commercial Motor Vehicle Operators

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. The FMCSA requests approval to revise and extend an information collection (IC) entitled, “Training Certification for Entry-Level Commercial Motor Vehicle (CMV) Operators,” that relates to the prerequisite training requirements for drivers of vehicles for which a commercial driver's license (CDL) is required. On May 23, 2007, FMCSA published a Federal Register notice allowing for a 60-day comment period on the ICR. No comments were received.

DATES: Please send your comments by October 1, 2007. OMB must receive your comments by this date in order to act quickly on the ICR.

ADDRESSES: You may submit comments to the Office of Information and Regulatory Affairs, Office of Management and Budget, 725 Seventeenth Street, NW., Washington, DC 20503, Attention: DOT/FMCSA Desk Officer.

FOR FURTHER INFORMATION CONTACT: Mr. Thomas Yager, Chief, FMCSA Driver and Carrier Operations Division, Telephone: 202-366-4235; e-mail MCPSD@dot.gov.

SUPPLEMENTARY INFORMATION: Title: Training Certification for Entry-Level Commercial Motor Vehicle Operators.

OMB Control Number: 2126-0028.

Type of Request: Revision of a currently-approved information collection.

Respondents: Entry-level CDL drivers.

Estimated Number of Respondents: 45,611.

Estimated Time per Response: 10 minutes.

Expiration Date: September 30, 2007.

Frequency of Response: On occasion.

Estimated Total Annual Burden: 7,602 hours. FMCSA estimates that an entry-level driver requires approximately 10 minutes to complete the tasks necessary to comply with the regulation. Those tasks are: Photocopying the training certificate, giving the photocopy to the motor carrier employer, and placing the original of the certificate in a personal file. Therefore, the annual burden for all entry-level drivers is (45,611 × 10/60) = 7,602 hours (rounded).

Background: The Commercial Motor Vehicle Safety Act of 1986 (CMVSA) (49 U.S.C. 31301 et seq.) established national minimum testing and licensing standards for operators of large trucks and buses. Congress sought to ensure that drivers of large trucks and buses possessed the knowledge and skills necessary to operate these vehicles. The CMVSA established the “Commercial Drivers License” program and directed the Federal Highway Administration (FHWA), FMCSA's predecessor agency, to establish minimum Federal standards that States must meet when licensing CMV drivers. The CMVSA applies to most operators of CMVs in interstate or intrastate commerce, including employees of Federal, State and local governments. Section 4007(a)(2) of the Intermodal Surface Transportation Efficiency Act of 1991 (ISTEA) (Pub. L. 102-240, December 18, 1991) directed the FHWA to “commence a rulemaking proceeding on the need to require training of all entry-level drivers of CMVs.” In 1993, the FHWA received public comments and began a study of the effectiveness of the training of entry-level drivers by the private sector. The study found that the heavy truck, motor coach, and school bus segments of the industry were not providing adequate entry-level training. In 2003, FMCSA proposed mandatory training for operators of CMVs, and in 2004, published a final rule on the topic. On June 11, 2004, OMB approved the information collection associated with the 2004 rule for a period of three years, or until September 30, 2007.

Definitions: “Commercial Motor Vehicle”: This rule applies to the operators of CMVs for which a CDL is required by 40 CFR part 383; i.e. those vehicles (1) having a gross vehicle weight rating of 26,001 pounds or more, regardless of actual weight, (2) designed to transport 16 or more passengers including the driver, or (3) used to transport certain placardable and dangerous hazardous materials (49 CFR part 383.5). The training requirements of this rule apply to drivers with 1 year or less experience operating a vehicle for which a CDL is required (49 CFR 380.502(b)).

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information.

Issued on: August 21, 2007.
Terry Shelton,
Associate Administrator for Research and Information Technology.

[FR Doc. E7-17325 Filed 8-30-07; 8:45 am]

BILLING CODE 4910-EX-P